INTERNATIONAL TRADE COMMISSION

[Investigation No. 731-TA-652 (Review)]

Aramid Fiber Formed of Poly Para-Phenylene Terephthalamide From the Netherlands

Determination

On the basis of the record ¹ developed in the subject five-year review, the United States International Trade Commission determines, pursuant to section 751(c) of the Tariff Act of 1930 (19 U.S.C. 1675(c)) (the Act), that revocation of the antidumping duty order on aramid fiber formed of poly para-phenylene terephthalamide from the Netherlands would not be likely to lead to continuation or recurrence of material injury to an industry in the United States within a reasonably foreseeable time.²

¹ The record is defined in sec. 207.2(f) of the Commission's Rules of Practice and Procedure (19 CFR § 207.2(f)).

² Commissioner Dennis M. Devaney did not participate in this investigation.

Background

The Commission instituted this review on December 1, 1999 (64 FR 67302) and determined on March 3, 2000 that it would conduct a full review (65 FR 13988, March 15, 2000). Notice of the scheduling of the Commission's review and of a public hearing to be held in connection therewith was given by posting copies of the notice in the Office of the Secretary, U.S. International Trade Commission, Washington, DC, and by publishing the notice in the Federal Register on August 21, 2000 (65 FR 50720). The hearing was held in Washington, DC, on January 9, 2001, and all persons who requested the opportunity were permitted to appear in person or by counsel.

The Commission transmitted its determination in this review to the Secretary of Commerce on February 22, 2001. The views of the Commission are contained in USITC Publication 3394 (February 2001), entitled Aramid Fiber Formed of Poly Para-Phenylene Terephthalamide from the Netherlands: Investigation No. 731-TA-652 (Review).

Issued: February 21, 2001.
By order of the Commission.
Donna R. Koehnke,
Secretary.

[FR Doc. 01-4835 Filed 2-27-01; 8:45 am]

BILLING CODE 7020-02-P